NATIONAL SCIENCE FOUNDATION

Advisory Committee for Engineering; Notice of Meeting

In accordance with Federal Advisory Committee Act (Pub. L. 92-463, as amended), the National Science Foundation announces the following meeting:

Name: Engineering Advisory Committee Meeting, #1170.

Date/Time: April 17, 2013: 11:45 p.m. to 5:00 p.m. April 18, 2013: 8:00 a.m. to 12:00 p.m.

Place: National Science Foundation, 4201 Wilson Boulevard, Suite 1235, Arlington, Virginia 22203.

Type of Meeting: Open.

Contact Person: Deborah Young, National Science Foundation, 4201 Wilson Boulevard, Suite 505, Arlington, Virginia 22203 Telephone: 703/292-8300.

To help facilitate your entry into the building, contact the individual listed above. Your request to attend this meeting should be received by email (dbyoung@nsf.gov) on or prior to April 15, 2013.

Purpose of Meeting: To provide advice, recommendations and counsel on major goals and policies pertaining to engineering programs and activities.

Agenda

Wednesday, April 17, 2013

• Directorate for Engineering Update

• Perspectives from the Office of the Director

• NSF Strategic Plan

• NSF CAREER Update

• Panel on Leveraging

Thursday, April 18, 2013

• AdCom Member Topics

• Update on Advanced Manufacturing Activities

• Update on Engineering Education Activities

• Planning for Comprehensive Public Access to Research Results

• Roundtable on ENG Strategic Activities and Recommendations

• Closing Remarks, and Wrap Up

Dated: March 26, 2013.
Susanne Bolton,
Committee Management Officer.

[FR Doc. 2013-07435 Filed 3-29-13; 8:45 am]

BILLING CODE 7555-01-P